DEPARTMENT OF THE INTERIOR

Bureau of Land Management

[CA-169-1220-AL]

Notice of Public Scoping Meeting; Carrizo Plain National Monument Resource Management Plan

SUMMARY: In accordance with Federal Land Policy and Management Act of 1976 (FLPMA), the Federal Advisory Committee Act of 1972 (FACA), the National Environmental Policy Act of 1969 (NEPA), and the Code of Federal Regulations (40 CFR 1501.7, 43 CFR 1610.2), the United States Department of the Interior, Bureau of Land Management (BLM), Carrizo Plain National Monument, Monument Advisory Committee members, the California State Department of Fish and Game and the Nature Conservancy will meet as indicated below:

DATES: The meeting will be held Tuesday, April 24, 2007 at the San Luis Obispo Library located at 995 Palm Street. This location is less than 1 mile east of Hwy. 101 off the Osos exit. The meeting will begin at 5:30 p.m. and finish at 7 p.m.

SUPPLEMENTARY INFORMATION: This meeting affords the public the opportunity to become informed about the Resource Management Plan planning and provide comments to be considered in the formulation of this plan. This meeting is open to the public, who may present written or verbal comments to be considered for the development of the Resource Management Plan, and discuss other coordination opportunities. Depending on the number of persons wishing to comment, and the time available, the time allotted for individual oral comments may be limited. Individuals who plan to attend and need special assistance such as sign language interpretation or other reasonable accommodations should contact BLM as indicated below.

FOR FURTHER INFORMATION CONTACT: Bureau of Land Management, Attention: Johna Hurl, Acting Monument Manager, 3801 Pegasus Drive, Bakersfield, CA 93308. Phone at (661) 391-6093 or e-mail at: jhurl@blm.gov.

Dated: March 6, 2007.
Johna Hurl,
Acting Monument Manager, Carrizo Plain National Monument.

[FR Doc. E7-5227 Filed 3-21-07; 8:45 am]

BILLING CODE 4310-40-P